DEPARTMENT OF ENERGY

Federal Energy Regulatory Commission

[Docket No. RP00-513-000]

Colorado Interstate Gas Company; Notice of Tariff Filing

September 7, 2000.

Take notice that on August 31, 2000, Colorado Interstate Gas Company (CIG), tendered for filing to become part of its FERC Gas Tariff, First Revised Volume No. 1, Sixteenth Revised Sheet No. 10, to be effective October 1, 2000.

CIG states that the purpose of this filing is to comply with its FERC Gas Tariff, First Revised Volume No. 1, Article 20.1 of the General Terms and Conditions. CIG states these tariff sheets reflect the requirements of its FERC Gas Tariff, Article 20.1 and relates to gas quality controls associated with volumes which are delivered on CIG's “Valley Line”.

CIG states that copies of the filing have been mailed to all affected customers and state regulatory commissions.

Any person desiring to be heard or to protest said filing should file a motion to intervene or a protest with the Federal Energy Regulatory Commission, 888 first Street, N.E., Washington, D.C. 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23449 Filed 9-12-00; 8:45 am]

BILLING CODE 6717-01-M